DEPARTMENT OF DEFENSE

Office of the Secretary; Defense Science Board

AGENCY: Department of Defense.

ACTION: Notice of advisory committee meeting date changes.

SUMMARY: On Friday, December 14, 2001 (66 FR 64810), the Department of Defense announced closed meetings of the Defense Science Board (DSB) Task Force on Defense Against Terrorists' Use of Biological Weapons. Several of the announced meetings have been rescheduled: from April 29-30, 2002, to May 6-7, 2002; from June 3-4, 2002, to June 6-7, 2002; and from July 22-23, 2002, to July 29-30, 2002. These meetings will be held at Strategic Analysis Inc., 3601 Wilson Boulevard, Suite 600, Arlington, VA.

Dated: March 14, 2002.
Patricia L. Toppings,
Alternate OSD Federal Register Liaison Office, Department of Defense.

[FR Doc. 02-6833 Filed 3-20-02; 8:45 am]

BILLING CODE 5001-08-M